RAILROAD RETIREMENT BOARD

Agency Forms Submitted for OMB Review

Summary: In accordance with the Paperwork Reduction Act of 1995 (44 U.S.C. Chapter 35), the Railroad Retirement Board (RRB) has submitted the following proposal(s) for the collection of information to the Office of Management and Budget for review and approval.

Summary of Proposal(s)

(1) Collection title: Pay Rate Report.

(2) Form(s) submitted: UI-1e.

(3) OMB Number: 3220-0097.

(4) Expiration date of current OMB clearance: 10/31/2004.

(5) Type of request: Extension of a currently approved collection.

(6) Respondents: Individuals or households.

(7) Estimated annual number of respondents: 350.

(8) Total annual responses: 350.

(9) Total annual reporting hours: 29.

(10) Collection description: Under the Railroad Unemployment Insurance Act, the daily benefit rate for unemployment and sickness benefits depends on the employee's last daily rate of pay. The report obtains information from the employee and verification from the employer of the claimed rate of pay for use in determining whether an increase in the daily benefit rate is due.

Additional Information or Comments: Copies of the forms and supporting documents can be obtained from Charles Mierzwa, the agency clearance officer (312-751-3363) or Charles.Mierzwa@rrb.gov.

Comments regarding the information collection should be addressed to Ronald J. Hodapp, Railroad Retirement Board, 844 North Rush Street, Chicago, Illinois 60611-2092 or Ronald.Hodapp@rrb.gov and to the OMB Desk Officer for the RRB, at the Office of Management and Budget, Room 10230, New Executive Office Building, Washington, DC 20503.

Charles Mierzwa,
Clearance Officer.

[FR Doc. 04-16777 Filed 7-22-04; 8:45 am]

BILLING CODE 7905-01-P